ENVIRONMENTAL PROTECTION AGENCY

[FRL-6716-7]

Science Advisory Board; Notification of Public Advisory Committee Meeting

Pursuant to the Federal Advisory Committee Act, Public Law 92-463, notice is hereby given that the Executive Committee (EC) of US EPA's Science Advisory Board will conduct a public teleconference meeting on Friday, June 30, 2000 between the hours of 1:00 and 3:00 pm Eastern Daylight Time. The meeting will be coordinated through a conference call connection in Room 6013 in the USEPA, Ariel Rios Building North, 1200 Pennsylvania Avenue, NW, Washington, DC 20460. The public is encouraged to attend the meeting in the conference room noted above. However, the public may also attend through a telephonic link, to the extent that lines are available. Additional instructions about how to participate in the conference call can be obtained by calling Ms. Dorothy Clark no earlier than one week prior to the meeting (beginning on June 23) at (202) 564-4537, or via e-mail at clark.dorothy@epa.gov.

Purpose of the Meeting: In this meeting, the Executive Committee plans to review reports from some of its Committees/Subcommittee, most likely including the following:

(1) Air Toxics Monitoring Subcommittee of the Executive Committee “Review of Draft Air Toxics Monitoring Strategy Concept Paper” (this report may be reviewed and approved at the June 16 EC Teleconference—see 65 FR 33318, dated May 23, 2000, and 65 FR 30589, dated May 12, 2000 for details).

(2) Environmental Economics Advisory Committee (EEAC): “Benefits Adjustments for Long-Term Effects.”

Availability of Review Materials: Drafts of the reports that will be reviewed at the meeting will be available to the public at the SAB website (http://www.epa.gov/sab) by close-of-business on June 21, 2000 (Note: the Air Toxics draft report has already been posted).

For Further Information: Any member of the public wishing further information concerning this meeting or wishing to submit brief oral comments must contact Dr. Donald Barnes, Designated Federal Officer, Science Advisory Board (1400A), U.S. Environmental Protection Agency, 1200 Pennsylvania Avenue, NW, Washington, DC 20460; telephone (202) 564-4533; FAX (202) 501-0323; or via e-mail at barnes.don@epa.gov. Requests for oral comments must be in writing (e-mail preferred) and received by Dr. Barnes no later than noon Eastern Time on May 26, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend the meeting are also asked to bring 25 copies of their comments for public distribution.

General Information: Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access: Individuals requiring special accommodation at this meeting, including wheelchair access to the conference room, should contact the DFO at least five business days prior to the meeting so that appropriate arrangements can be made.

Dated: June 9, 2000.
Donald G. Barnes,
Staff Director, Science Advisory Board.

[FR Doc. 00-15157 Filed 6-14-00; 8:45 am]

BILLING CODE 6560-50-P